DEPARTMENT OF HEALTH AND HUMAN SERVICES

Indian Health Service

Statement of Mission, Organization, Functions and Delegation of Authority

Part G, of the Statement of Organization, Functions, and Delegations of Authority of the Department of Health and Human Services, as amended at 60 FR 56606, November 9, 1995, and most recently amended at 61 FR 67048, December 19, 1996, is amended to reflect a reorganization of the Albuquerque Area Indian Health Service (GFC). The changes are as follows:

Delete the functional statements for the Albuquerque Area in their entirety and replace with the following:

Section GFC-00, Albuquerque Area Indian Health Service—Mission. The Albuquerque Area IHS defines its mission as a commitment to the well-being and cultural integrity of Indian people through a participatory and consultative process. The goal of the Albuquerque Area IHS is to elevate the health status of American Indian and Alaska Native people to the highest possible level by (1) providing and/or assuring availability, (2) providing increasing opportunities for Indians to manage and operate their own health programs; and (3) serving as an advocate for Indian people.

Section GFC-10, Functions. Office of the Director (GFC1). By specific delegation from the Director, Indian Health Service: (1) Plans, develops, and directs the area program within the framework of IHS policy in pursuit of the IHS mission; (2) delivers and ensures the delivery of high quality comprehensive health services; (3) coordinates the Albuquerque Area Indian Health Service activities and resources, internally and externally, with those of other governmental and nongovernmental programs; (4) promotes optimum utilization of health care services through quality management and delivery of services to American Indian and Alaska Natives; (5) promotes collaboration of Indian tribes and Indian organizations in developing the goals and objectives for the Albuquerque Area Indian Health Service; (6) evaluates the efficiency, economy, legality, and effectiveness with which programs carry out their responsibilities; (7) promotes resource development; and (8) oversees the EEO program and tribal Support Staff Office.

Office of Operational Support (GFC2). (1) Administers the Divisions of Budget, Accounting, Human Resources, Contracts, and Information Management Systems; (2) provides operational consultation; (3) provides resource review, analysis and realignment; (4) develops reporting systems, assessment and auditing procedures; (5) establishes, maintains, and promotes liaison with community, tribal, civic groups, professional organizations, colleges, universities, and other agencies as appropriate; (6) serves as principal advisor to the Chief Medical Officer and Area Director on administrative and management matters involving the Area and headquarters functions for Diabetes, Epidemiology and Information Technology Services; (7) serves as principal advisor on fiscal matters; and (8) provides billing consultation and assessment.

Division of Budget (CFC21). (1) Formulates fiscal budget activities; (2) determines funding amounts available for tribal shares distribution; (3) prepares operating budget authority documents to distribute funds to service units, programs, area support divisions and tribal contractors; (4) oversees and consults on proper cost accounting and cost reporting.

Division of Accounting (GFC22). Responsible for (1) the overall accounting, financial reporting, reconciliation and payment functions for the Albuquerque Area and National Programs-Albuquerque; (2) certifies all travel payments; (3) reconciles with service units, area office divisions, and the U.S. Treasury; (4) performs internal control reviews for the area; (5) oversees tribal shares distribution and payments; (6) consults with tribes on accounting issues; and (7) provides support services to headquarters functions for Diabetes, Epidemiology and Information Technology Services.

Division of Human Resources (GFC23). (1) Plans, implements, coordinates, and evaluates the area civil service and commissioned officer human resources program; (2) develops operating personnel policies, and assures a supportive human resources program which meets the human capital framework of the area; (3) administers operating personnel policies, position classification and pay management, recruitment and staffing, employee relations, labor management, employee development; personnel records and reports; (4) conducts training courses for supervisory and non-supervisory staff; (5) maintains pertinent federal personnel regulation guidelines; (6) serves as principal advisor to the Area Director, Executive Officer, area staff, and service unit staff in matters relating to human resources; (7) keeps abreast of current development of tribal health activities as they relate to the area human resources program; (8) establishes, maintains and promotes liaison with community, tribal, civic groups, professional organizations, colleges, universities, and other agencies as appropriate; (9) oversees the scholarship program; and (10) provides support services to headquarters functions for Diabetes, Epidemiology and Information Technology Services.

Division of Contracts and Grants Management (GFC24). (1) Plans, implements, coordinates, and evaluates the area contract and grants management programs within established requirements and authorities; (2) interprets federal contract, grant and procurement regulations, policies, procedures, and practices; (3) provides technical assistance to Indian tribes, Indian and urban Indian organizations in the development of activities related to procurement capabilities; (4) maintains the federal procurement regulation manuals and the HHS grant administration manuals; (5) provides delegations of authority for service unit procurement; (6) evaluates service unit procurement operations; (7) keeps abreast of current development of tribal health activities as they related to the contract, grant and procurement activity; and (8) provides support services to headquarters functions for Diabetes, Epidemiology and Information Technology Services as delegated by the Headquarters Memorandum of Agreement.

Division of Information Management Services (GFC25). (1) Provides advice on area policies and procedures related to data processing, computer software, computer equipment, and telecommunications; (2) provides technical support on data processing services and software application to the area and service units; (3) assesses area needs for information technology and advises on alternatives; (4) provides training to improve utilization and understanding of information technologies; and (5) works with Headquarters Division of Information Resources (DIR), to design and develop systems that are responsive to area needs and provides tribal support.

Office of Clinical Care Programs (GFC3). Plans, implements, directs, coordinates and evaluates the patient care programs throughout the Albuquerque Area health care system. This office oversees (1) planning/statistics; (2) integrated health systems; (3) medical information; (4) epidemiology; (5) contract health; (6) clinical nursing; (7) diabetes/public health nursing; (8) Community Health Representative/Emergency Medical Services Programs (CHR/EMS); (9) behavioral health; (10) optometry; (11) provider recruitment; (12) serves as the expert in clinical programs for the Albuquerque Area; and (13) serves as liaison for clinical tort claims, sentinel events and risk management issues.

Division of Clinical System Support (GFC31). Provides (1) data gathering for clinical improvement and quality of care; (2) strategic planning and community assessment; (3) Contract Health Services Program (CHS); (4) dental support; and (5) facilitates integrated systems approach with outside agencies.

Division of Clinical Quality (GFC32). (1) coordinates clinical technical assistance that impacts on quality performance and promotes collaboration to improve quality care; (2) oversees the diabetes/public health nursing and clinical nursing programs; behavioral health program; provider recruitment program; and the CHR/EMS program; and (3)O provides area-wide technical support in the clinical programs and quality council.

Office of Environmental Health & Engineering (GFC4). (1) Administer the area facilities management, sanitation facilities construction, environmental health services, and the national environmental health support functions; (2) serves as the principal advisor to the Area Director, area staff, and service unit staff and healthful environment in IHS facilities and Indian communities; (4) constructs, improves, extends or otherwise provides essential sanitation facilities in Indian homes and communities; (5) maintains liaison and coordinates environmental activities with tribes, area programs, state and local governments, and other outside groups; and (6) provides support services to headquarters functions for Diabetes, Epidemiology and Information Technology Services.

Division of Health Facilities (GFC41). (1) Manages the area health facilities & maintenance program; (2) serves as the liaison with Headquarters and engineering services in Dallas; (3) provides resource coordination; (4) advises service units on Heating, Ventilation, and Air Conditioning (HVAC) & energy issues; (5) advises the service units on construction & utility issues; (6) constructs, maintains, and improves health facilities of the IHS; and (7) manages and controls the area-wide real property program.

Division of Environmental Health Support (GFC42). Provides nationwide training and technical support in the areas of environmental health and injury prevention, engineering, operation and maintenance for the IHS. Coordinates national emergency response activities on behalf of the Indian Health Service.

Section GFN-20, Albuquerque Area IHS-Delegations of Authority. All delegations and redelegations of authority made to officials in the Albuerque Area that were in effect immediately prior to this reorganization, and that are consistent with this reorganization, shall continue in effect pending further redelegation.

This reorganization shall be effective on the date of signature.

Dated: May 16, 2000.
Michel E. Lincoln,
Deputy Director.

[FR Doc. 00-13211 Filed 5-25-00; 8:45 am]

BILLING CODE 4160-16-M